DEPARTMENT OF COMMERCE

National Oceanic and Atmospheric Administration

RIN 0648-XD837

Fisheries of the South Atlantic; South Atlantic Fishery Management Council; Public Meeting

AGENCY: National Marine Fisheries Service (NMFS), National Oceanic and Atmospheric Administration (NOAA), Commerce.

ACTION: Design workshop for monitoring deep water snapper-grouper species in the South Atlantic.

SUMMARY: The South Atlantic Fishery Management Council (SAFMC) and Southeast Fisheries Science Center (SEFSC) will host a workshop where fishermen and scientists will discuss approaches for monitoring the deep water stocks component of the South Atlantic Snapper-Grouper complex. See SUPPLEMENTARY INFORMATION.

DATES: The workshop will be held from 8:30 a.m. to 5 p.m., Tuesday, April 7, 2015; 8:30 a.m. to 5:30 p.m., Wednesday, April 8, 2015; and 8:30 a.m. to 3 p.m., Thursday, April 9, 2015.

ADDRESSES:

Meeting address: The Workshop will be held at SEFSC Laboratory in Beaufort NC, located at 101 Piver's Island Road, Beaufort, NC 28516.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; telephone: (843) 571-4366 or toll free: (866) SAFMC-10; fax: (843) 769-4520; email: kim.iverson@safmc.net.

SUPPLEMENTARY INFORMATION: The goal of the Workshop is to identify optimal approaches and associated costs for surveying the South Atlantic deep-water species complex. Survey goals are expected to include providing abundance information and biological samples to support stock assessments of deep water species.

Workshop Agenda, Tuesday, April 7-Thursday, April 9, 2015

1. Identify focal species

2. Provide species details

3. Recommend survey gears

4. Recommend gear configurations

5. Recommend survey data to collect

6. Recommend a sampling universe

7. Provide survey design guidance

8. Compare and contrast survey platforms, including cooperative research opportunities

9. Provide cost estimates

10. Identify long-term and short-term needs and cooperative research opportunities

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: March 17, 2015.
Tracey L. Thompson,
Acting Deputy Director, Office of Sustainable Fisheries, National Marine Fisheries Service.

[FR Doc. 2015-06437 Filed 3-20-15; 8:45 am]

BILLING CODE 3510-22-P